DEPARTMENT OF THE INTERIOR

Bureau of Land Management

DEPARTMENT OF AGRICULTURE

Forest Service

Smoky Canyon Mine, Panels B and C, BLM Pocatello Field Office and Caribou-Targhee National Forest, Caribou County, ID

AGENCY: Bureau of Land Management, USDI and Forest Service, USDA.

ACTION: Notice of Intent to Prepare a Supplemental Environmental Impact Statement

SUMMARY: Notice is hereby given that the Bureau of Land Management (BLM), Pocatello Field Office and the Department of Agriculture, Forest Service (FS), Caribou-Targhee National Forest, will jointly prepare a Supplemental Environmental Impact Statement (SEIS) to document the analysis and disclose the environmental and human effects of a proposed mine plan for future operations at the existing J.R. Simplot Smoky Canyon Phosphate Mine, Caribou County, Idaho, located approximately 20 miles west of Afton, Wyoming. The proposed mining operations would utilize land administered by the FS, BLM and land that is privately owned. Mining would take place on Federal Phosphate Leases I-012890, I-026843, and I-027801, within the Caribou-Targhee National Forest.

J. R. Simplot Company must obtain federal permits prior to mining under the proposed mine plan. The existing mining and milling operations were authorized by a Record of Decision that was issued in 1982 upon completion of the original Smoky Canyon Phosphate Mine EIS. The conditional permits granted by the BLM and FS at the beginning of the Smoky Canyon mining operations required that subsequent site-specific mine plans for the individual mine panels be submitted to the agencies for their review and that appropriate mitigation measures be developed using further environmental analysis. The environmental effects from the proposed B and C Panels were assessed in the 1982 EIS, however this SEIS will further evaluate the effects of the proposed mine plan in light of additional information on selenium and other potential contaminants collected since 1982. Based on the supplemental environmental analysis, the BLM and FS would make decisions regarding the Panel B and C Mine and Reclamation Plan and additional land use authorizations for the proposed mining activities, potentially including: lease modifications by the BLM and a Special Use Permit by the FS. In addition, a Section 404, Clean Water Act permit may be required by the U.S. Army Corps of Engineers (Corps) for the proposed operations.

Agency Decisions

The BLM Pocatello Field Office Manager, who is the responsible official for the SEIS and on-lease lands, and the Caribou-Targhee National Forest Supervisor, who is the responsible official for Caribou-Targhee National Forest lands not on-lease will make separate decisions related to appropriate land use authorizations regarding this proposal considering: scoping comments and responses, anticipated environmental consequences discussed in the SEIS, and applicable laws, regulations, and policies. These decisions may include approval of a site specific Mine and Reclamation Plan; issuance of phosphate lease modifications by the BLM; and special use permits by the FS. A Section 404, Clean Water Act Permit may also be required by the Corps. They would render a decision related to that permit and how to mitigate the impacts to affected wetlands and Waters of the United States.

DATES: Written comments concerning the scope of the analysis described in this Notice should be received on or before April 24, 2000.

Scoping Procedure

The scoping procedure to be used for this SEIS will involve the following: a broad mailing asking for comments, issues and concerns to interested and potentially affected individuals, groups, Federal, State and local government; news releases or legal notices; and public scoping meetings.

ADDRESSES: Send written comments to Linda Matthews, JBR Environmental Consultants, Inc., 8160 South Highland Drive, Suite A-4, Sandy, Utah 84093, (lmatthews@jbr-env.com).

FOR FURTHER INFORMATION CONTACT: Jeff Cundick, Bureau of Land Management, Pocatello Field Office, 1111 N. 8th Ave., Pocatello, Idaho 83201, phone (208) 478-6354; or Philippe de Hánaut, Caribou-Targhee National Forest, Soda Springs Ranger District, 421 W. Second South, Soda Springs, Idaho 83276, phone (208) 547-4356.

SUPPLEMENTARY INFORMATION: The proposed mining activities would consist of two open pits, known as Panels B and C, topsoil stockpiles, mine equipment parking areas, access and haul roads, a power line extension, external overburden storage areas, and runoff/sediment control facilities. Mining would include best management practices for control of releases of sediment and dissolved metals. The proposed open pits would be located on either side of Smoky Creek. The creek would be crossed in two locations by road fills. One of these road fills already exists for the mine access road and would be widened to accommodate the 100-foot width of a new haul road. A second, new haul road fill would be constructed across Smoky Creek in a separate location. The existing Forest Service road in Smoky Canyon would cross the proposed haul roads at grade in two locations. The public road would be protected with traffic controls posted on either side. A culvert or retaining wall would be installed in Smoky Creek along the mining area to protect water quality during mining and would be removed along with any road fills not required for continued access road requirements during reclamation activities.

Existing mine, maintenance, administrative, and milling facilities would be used during the mine period. Ore from the new panels would be beneficiated in the existing mill facilities and tailings would be deposited in the existing tailings disposal facilities. Ore concentrate would be transferred to the Don Plant in Pocatello, Idaho via the existing slurry pipeline transportation system. Water usage would continue as in the past with no increase in water consumption for the operations.

Disturbed lands directly resulting from the proposed activities would total 656 acres. The new pits would include 353 acres and the rest of the disturbed acreage would be for roads, overburden disposal areas, and other support facilities. Approximately 605 acres of the proposed disturbance would be reclaimed by backfilling most of the proposed open pit areas, regrading fill slopes, spreading topsoil, planting of appropriate vegetation, and installation and maintenance of runoff and sediment control facilities.

The BLM and FS believe, at this early stage, it is important to give reviewers notice of several court rulings, related to public participation in the environmental review process. First, reviewers of draft EISs must structure their participation in the environmental review of the proposal so that it is meaningful and alerts an agency to reviewer's position and contentions. Vermont Yankee Nuclear Power Corp. v. NRDC, 435 U.S. 519,553 (1978). Also, environmental objections that could be raised at the draft EIS stage but that are not raised until after completion of the final EIS may be waived or dismissed by the courts. City of Angoon v. Hodel, 803 F. 2d 1016, 1022 (9th Cir. 1986) and Wisconsin Heritages, Inc. v. Harris, 490 F. Supp. 1334, 1338 (E.D. Wis. 1980). Because of these court rulings, it is very important that those interested in this proposed action participate by the close of the 60-day comment period for the draft SEIS so that substantive comments and objections are made available to the BLM and FS at a time when it can meaningfully consider them and respond to them in the final SEIS.

Preliminary Issues

Initially identified issues include potential effects on: ground water and surface water quantity and quality, wildlife and their habitats, livestock grazing, wetlands and riparian habitat, socio-economics, and development of best management practices for mine operations.

Possible Alternatives

The SEIS will analyze the Proposed Action and No Action Alternatives. Other alternatives to be considered would include altering portions of the proposed mining facilities or sequence and design parameters to provide mitigation for resources of concern.

Tentative SEIS Project Schedule

The tentative project schedule is as follows:

• Begin Public Comment Period—March, 2000

• Hold Public Scoping Meetings—April, 2000

• Estimated date for Draft SEIS—February, 2001

• Public Comment Period on Draft SEIS—60 days from when the Notice of Availability is published in the Federal Register

Public Scoping Meetings

Two public scoping meetings will be held, each an open house type, from 7 pm-9 pm. The open houses will include displays explaining the project and a forum for commenting on the project. The meetings will be held as follows:

• Star Valley High School, Afton, Wyoming

• BLM Field Office, Pocatello, Idaho

Information on the dates for the scoping meetings can be obtained from Linda Matthews, JBR Environmental Consultants, Inc., (801) 943-4144, (lmatthews@jbr-env.com).

Public Input Requested

The BLM and FS are seeking information and written comments from Federal, State and local agencies as well as individuals and organizations who may be interested in, or affected by, the proposed action. To assist the BLM and FS in identifying and considering issues and concerns related to the proposed action, comments for scoping, and later for the Draft SEIS, should be as specific as possible. Referring to specific pages or chapters of the SEIS or the merits of the alternatives formulated and discussed in the SEIS is most helpful.

Dated: March 15, 2000.
Jeff Steele,
Manager, Pocatello Field Office, Bureau of Land Management.
Harold Klein,
Acting Forest Supervisor, Caribou-Targhee National Forest.

[FR Doc. 00-7110 Filed 2-23-00; 8:45 am]

BILLING CODE 4310-84-P, 3410-11-P